DEPARTMENT OF HEALTH AND HUMAN SERVICES

Centers for Disease Control and Prevention

[30Day-23-22GG]

Agency Forms Undergoing Paperwork Reduction Act Review

In accordance with the Paperwork Reduction Act of 1995, the Centers for Disease Control and Prevention (CDC) has submitted the information collection request titled “Pilot Plan for the Interim Local Health Department Strategy for Response, Control, and Prevention of Healthcare Associated Infections (HAI) and Antibiotic Resistance (AR)” to the Office of Management and Budget (OMB) for review and approval. CDC previously published a “Proposed Data Collection Submitted for Public Comment and Recommendations” notice on June 17th, 2022 to obtain comments from the public and affected agencies. CDC did not receive comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

Pilot Plan for the Interim Local Health Department Strategy for Response, Control, and Prevention of Healthcare Associated Infections (HAI) and Antibiotic Resistance (AR)—New—National Center for Emerging and Zoonotic Infectious Diseases (NCEZID), Centers for Disease Control and Prevention (CDC).

Background and Brief Description

Through piloting the Interim Local Strategy, CDC's Division of Healthcare Quality Promotion (DHQP) aims to understand Local Health Departments' (LHDs) experience implementing the strategy and collect their feedback for refinement. A secondary goal of this study is to create a network of LHDs working in Healthcare Associated Infections (HAI) and Antibiotic Resistance (AR) activities to learn from one another and share best practices. Data collected during the pilot will be used to assess the extent to which the strategy materials and resources help LHDs to: (1) grow and expand their HAI/AR partner networks and collaboration; (2) build operational capacity to conduct and promote sustainable HAI/AR infection prevention and control practices; and (3) expand HAI/AR infection prevention, outbreak response, and stewardship activities. Furthermore, data will inform any necessary refinements of the materials and resources.

CDC will conduct data collection through interviews and electronic surveys, to capture feedback on the strategy's usability and effectiveness, as well as on each individual material and resource. CDC will use a mixed methods approach with both deductive and inductive analysis of qualitative data collected through surveys and structured interviews, and aggregate quantitative survey data.

CDC requests OMB approval for an estimated 360 annualized burden hours. There is no cost to respondents other than their time to participate.

Estimated Annualized Burden Hours
Type of respondents | Form name | Number of respondents | Number of responses per respondent | Average burden per response (in hours)
Voluntary LHD Participants/NACCHO Coag LHD participants | LHD HAI/AR Strategy Pilot Feedback Form | 60 | 1 | 4
Voluntary LHD Participants | LHD HAI/AR Strategy Pilot Interview Guide | 30 | 1 | 2
NACCHO CoAg LHD Participants | LHD HAI/AR Strategy Pilot Survey | 30 | 1 | 2

Jeffrey M. Zirger,
Lead, Information Collection Review Office, Office of Scientific Integrity, Office of Science, Centers for Disease Control and Prevention.

[FR Doc. 2022-22028 Filed 10-7-22; 8:45 am]

BILLING CODE 4163-18-P